FEDERAL MINE SAFETY AND HEALTH REVIEW COMMISSION

[BAC 6735-01]

Sunshine Act Notice

March 30, 2016.

TIME AND DATE: 10:00 a.m., Wednesday, April 20, 2016.

PLACE: The Richard V. Backley Hearing Room, Room 511N, 1331 Pennsylvania Avenue NW., Washington, DC 20004 (enter from F Street entrance).

STATUS: Open.

MATTERS TO BE CONSIDERED: The Commission will hear oral argument in the matter Secretary of Labor v. The American Coal Company, Docket Nos. LAKE 2011-701, et al. (Issues include whether the Judge erred by not requiring that the Secretary prove by a preponderance of the evidence that the amounts of proposed penalties based on special assessments were appropriate.)

Any person attending this oral argument who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2016-07690 Filed 3-31-16; 11:15 am]

BILLING CODE 6735-01-P